DEPARTMENT OF DEFENSE

Office of the Secretary

Federal Advisory Committee; Defense Health Board (DHB) Meeting

AGENCY: Department of Defense (DoD).

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, the Defense Health Board (DHB) announces that it will meet on June 8 and 9, 2010. Subject to the availability of space, the meeting is open to the public on June 8 from 9:30 a.m. to 12:30 p.m. and from 1:45 p.m. to 5 p.m.

DATES: The meeting will be held:

June 8, 2010

7:30 a.m.-9:15 a.m. (Closed, Administrative Working Meeting).

9:30 a.m.-12:30 p.m. (Open Session).

12:30 p.m.-1:45 p.m. (Closed, Administrative Working Meeting).

1:45 p.m.-5 p.m. (Open Session).

June 9, 2010

8 a.m.-2 p.m. (Closed Session).

ADDRESSES: The June 8 meeting will be held at the Sheraton National Hotel, 900 South Orme Street, Arlington, VA 22204.

The June 9 meeting will be held at the Industrial College of the Armed Forces, Fort McNair, Washington, DC.

Written statements may be mailed to the address under FOR FURTHER INFORMATION CONTACT, e-mailed to dhb@ha.osd.mil or faxed to (703) 681-3317.

FOR FURTHER INFORMATION CONTACT: Commander Edmond F. Feeks, Executive Secretary, Defense Health Board, Five Skyline Place, 5111 Leesburg Pike, Suite 810, Falls Church, Virginia 22041-3206, (703) 681-8448, EXT. 1228, Fax: (703) 681-3317, edmond.feeks@tma.osd.mil.

SUPPLEMENTARY INFORMATION:

Purpose of the Meeting

The purpose of the meeting is to address and deliberate pending and new Board issues and provide briefings for Board members on topics related to ongoing Board business.

Agenda

On June 8, 2010, the DHB will receive briefings on military health needs and priorities. The following Defense Health Board Subcommittees will present updates to the Board: Department of Defense Task Force on the Prevention of Suicide by Members of the Armed Forces and the Military Occupational/Environmental Health and Medical Surveillance Subcommittee. Additionally, the Board will receive briefs regarding Convalescent Plasma Therapy, DoD Operations, and the Defense and Veterans Pain Management Initiative. The Board may also vote on issues presented by the Psychological Health External Advisory Subcommittee and the Trauma and Injury Subcommittee.

Pursuant to 5 U.S.C. 552b, as amended, and 41 CFR 102-3.155, in the interest of national security, the Department of Defense has determined that the meeting on June 9, 2010 will be closed to the public. The Under Secretary of Defense (Personnel and Readiness), in consultation with the Office of the DoD General Counsel, has determined in writing that the public interest requires that the session on June 9, 2010 be closed to the public because it will concern matters listed in section 552b(c)(1) of title 5, United States Code. Specifically, the information presented meets criteria established by an executive order to be kept secret in the interest of national defense and foreign policy.

Pursuant to 5 U.S.C. 552b, as amended, and 41 CFR 102-3.140 through 102-3.165 and subject to availability of space, the Defense Health Board meeting from 9:30 a.m. to 12:30 p.m. and from 1:45 p.m. to 5 p.m. on June 8, 2010 is open to the public. The public is encouraged to register for the meeting.

Additional information, agenda updates, and meeting registration are available online at the Defense Health Board Web site, http://www.health.mil/dhb/default.cfm.

Written Statements

Any member of the public wishing to provide input to the Defense Health Board should submit a written statement in accordance with 41 CFR 102-3.140(c) and section 10(a)(3) of the Federal Advisory Committee Act, and the procedures described in this notice. Written statement should be no longer than two type-written pages and must address the following detail: The issue, discussion, and a recommended course of action. Supporting documentation may also be included as needed to establish the appropriate historical context and to provide any necessary background information.

Individuals desiring to submit a written statement may do so through the Board's Designated Federal Officer (see FOR FURTHER INFORMATION CONTACT) at any point. If the written statement is not received at least 10 calendar days prior to the meeting, which is subject to this notice, then it may not be provided to or considered by the Defense Health Board until the next open meeting.

The Designated Federal Officer will review all timely submissions with the Defense Health Board Chairperson, and ensure they are provided to members of the Defense Health Board before the meeting that is subject to this notice. After reviewing the written comments, the Chairperson and the Designated Federal Officer may choose to invite the submitter of the comments to orally present their issue during an open portion of this meeting or at a future meeting.

The Designated Federal Officer, in consultation with the Defense Health Board Chairperson, may, if desired, allot a specific amount of time for members of the public to present their issues for review and discussion by the Defense Health Board.

Special Accommodations

If special accommodations are required to attend (sign language, wheelchair accessibility) please contact Ms. Lisa Jarrett at (703) 681-8448 ext. 1280 by May 28, 2010.

Dated: April 5, 2010.
Mitchell S. Bryman,
Alternate OSD Federal Register Liaison Officer, Department of Defense.

[FR Doc. 2010-7964 Filed 4-7-10; 8:45 am]

BILLING CODE 5001-06-P